DEPARTMENT OF COMMERCE

National Oceanic and Atmospheric Administration

[RTID 0648-XC656]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day in-person meeting with an option for remote participation to consider actions affecting New England fisheries in the exclusive economic zone (EEZ). The Council continues to follow all public safety measures related to COVID-19 and intends to do so for this meeting.

DATES: The meeting will be held on Tuesday, Wednesday, and Thursday, January 24, 25, and 26, 2023, beginning at 9 a.m. each day.

ADDRESSES: The meeting will be held at The Venue at Portwalk Place, 22 Portwalk Place, Portsmouth, NH 03801; telephone (603) 422-6114; online at https://www.thevenueatportwalkplace.com/meetings. Join the webinar at https://attendee.gotowebinar.com/register/9197960552051905627.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, January 24, 2023

The Council will begin this meeting in Closed Session to discuss appointments to its Scientific and Statistical Committee. At 9:30 a.m., the open session will begin with brief announcements, followed by reports on recent activities from the Council's Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard, NOAA's Office of Law Enforcement, and the Northeast Trawl Advisory Panel. Next, the Council will receive an update from GARFO on: (1) the development of measures under Phase 2 of the Atlantic Large Whale Take Reduction Plan, which are intended to reduce entanglements of large whales in gillnet fisheries; and (2) an overview of the Atlantic Large Whale Take Reduction Team's recommendations on potential measures. The Council will have an opportunity to provide input on the recommendations. Members of the Northeast Fisheries Science Center's Gear Research Team will then give a presentation on engaging the mobile gear fleet to visualize ropeless gear and prevent gear conflicts. This will be followed by a short update on the Council's discussions with the Mid-Atlantic Fishery Management Council to develop sink gillnet measures to protect large whales and Atlantic sturgeon.

After the lunch break, the Council will receive a presentation from the Northeast Fisheries Science Center's Social Sciences Branch on its Greater Atlantic Region Commercial Fishing Business Cost Survey for 2022. The presentation will include information on: (1) survey background and the importance of collecting cost data; (2) improvements and changes from previous surveys; and (3) the upcoming survey implementation schedule and related details. Then, the Habitat Committee will provide its report, which will cover: (1) an update on draft management alternatives for a framework adjustment to the Atlantic Salmon Fishery Management Plan (FMP) to facilitate offshore Atlantic salmon aquaculture; and (2) an update on offshore energy issues and other habitat-related work, including a progress report on the Bureau of Ocean Energy Management's (BOEM) Gulf of Maine offshore wind development activities. As the last item of business for the day, the Council will have a discussion on and decide whether to recommend a control date to potentially limit the movement of limited access general category (LAGC) permits in the Northern Gulf of Maine (NGOM) Atlantic sea scallop fishery.

Wednesday, January 25, 2023

The Council will begin the second day of its meeting with a presentation on and discussion about quantifying, interpreting, and communicating sources of uncertainty in the Council decision-making process. The Monkfish Committee report will follow. The Council will take final action on Framework Adjustment 13 to the Monkfish FMP, which includes specifications for the 2023-2025 fishing years and other measures. The Council will consider additional Scientific and Statistical Committee (SSC) input on acceptable biological catches (ABCs) for all three monkfish fishing years before taking final action. The Council also will revisit its 2023-24 priorities for the Monkfish Research Set-Aside Program. Next, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf.

After the lunch break, the Council will take up the Groundfish Committee report. The Council took final action on Framework Adjustment 65 to the Northeast Multispecies FMP during its December 2022 meeting. During this January 2023 meeting, the Council will possibly revise the framework's ABCs for Atlantic halibut for fishing years 2023-25 after considering the SSC's recommendations. This is the only issue to be discussed under Framework Adjustment 65. In other groundfish actions, the Council will provide recommendations to GARFO on fishing year 2023 recreational measures for Georges Bank cod, Gulf of Maine cod, and Gulf of Maine haddock. The Council also will receive a progress report on the development of metrics for the review process to evaluate the groundfish monitoring system under Amendment 23. Lastly, the Council will receive an update on the 2023 Atlantic Cod Research Track Assessment and ongoing discussions about cod stock structure. The Council will close out the day with a NOAA Fisheries report on results from the November 14-21, 2022 Annual Meeting of the International Commission for the Conservation of Atlantic Tunas (ICCAT). The Council also will hear recommendations from the Advisory Committee to the U.S. Section of ICCAT.

Thursday, January 26, 2023

The Council will lead off the third day of its meeting with a brief overview of its Risk Policy and provide guidance for its Risk Policy Committee. Then, the Council will discuss and approve its response to the Office of National Marine Sanctuaries' request for information and input on draft regulations for fishing within the proposed Hudson Canyon National Marine Sanctuary. The Ecosystem-Based Fishery Management (EBFM) Committee report will follow. The report will include: (1) a progress report on the prototype Management Strategy Evaluation (pMSE) planning meetings for EBFM and the Georges Bank example Fishery Ecosystem Plan (eFEP); and (2) the EBFM Committee's advice on conducting deep-dive public information workshops for EBFM. The Council next will receive a presentation on the peer-reviewed results of the Research Track Stock Assessments for spiny dogfish and bluefish and then review and approve the Council's harassment prevention policies. Finally, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: January 4, 2023.
Rey Israel Marquez,
Acting Deputy Director, Office of Sustainable Fisheries, National Marine Fisheries Service.

[FR Doc. 2023-00199 Filed 1-9-23; 8:45 am]

BILLING CODE 3510-22-P